DEPARTMENT OF LABOR

Employment and Training Administration

[TA-W-81,445; TA-W-81,445A]

Worley Parsons, Accounts Payable, a Subsidiary of Worley Parsons Corporation, Including On-Site Leased Workers From GAS Unlimited, the Mergis Group And Tatum LLC Pasadena, TX; Worley Parsons, Accounts Payable, a Subsidiary of Worley Parsons Corporation, Including On-Site Leased Workers From GAS Unlimited, the Mergis Group and Tatum LLC Bellair, TX; Amended Certification Regarding Eligibility To Apply for Worker Adjustment Assistance

In accordance with Section 223 of the Trade Act of 1974, as amended (“Act”), 19 U.S.C. 2273, the Department of Labor issued a Certification of Eligibility to Apply for Worker Adjustment Assistance on April 30, 2012, applicable to workers of Worley Parsons, Accounts Payable, a subsidiary of Worley Parsons Corporation, including on-site leased workers from GAS Unlimited and The Mergis Group, Pasadena, Texas. The workers firm provides engineering and design services. The Account Payable Group provides financial services. The notice was published in the Federal Register on October 17, 2012 (77 FR 63875).

At the request of the State agency, the Department reviewed the certification for workers of the subject firm. New information shows that Bellaire, Texas is a sister facility of the Pasadena, Texas location. Both locations experienced worker separations during the relevant time period due to a shift in services to Malaysia. Information from the company also shows that leased workers from Tatum LLC were employed on-site at the Pasadena, Texas and the Bellaire, Texas locations of the subject firm. Also, the original decision covered the Accounts Payable and Accounts Receivable departments. At the request of the company, only Accounts Payable is covered by this certification.

Accordingly, the Department is amending the certification to include workers of the Bellaire, Texas location of the subject firm, include on-site leased workers from Tatum LLC and to correctly identify the worker group to only include Accounts payable.

The intent of the Department's certification is to include all workers of the subject firm who were adversely affected by a shift in services to Malaysia.

The amended notice applicable to TA-W-81,445 and TA-W-81,445A are hereby issued as follows:

All workers from Worley Parsons Group, a subsidiary of Worley Parsons Corporation, Accounts Payable, including on-site leased workers from GAS Unlimited, The Mergis Group and Tatum LLC, Pasadena, Texas (TA-W-81,445) and Worley Parsons Group, a subsidiary of Worley Parsons Corporation, Accounts Payable, including on-site leased workers from GAS Unlimited, The Mergis Group and Tatum LLC, Bellaire, Texas (TA-W-81,445A), who became totally or partially separated from employment on or after March 22, 2011 through April 30, 2014, and all workers in the group threatened with total or partial separation from employment on date of certification through two years from the date of certification, are eligible to apply for adjustment assistance under Chapter 2 of Title II of the Trade Act of 1974, as amended.

Signed at Washington, DC, this 29th day of November 2012.
Elliott S. Kushner,
Certifying Officer, Office of Trade Adjustment Assistance.

[FR Doc. 2012-30577 Filed 12-19-12; 8:45 am]

BILLING CODE 4510-FN-P